DEPARTMENT OF ENERGY

Bonneville Power Administration, Hopkins Ridge Wind Interconnection Project

AGENCY: Bonneville Power Administration (BPA), Department of Energy (DOE).

ACTION: Notice of availability of Record of Decision (ROD).

SUMMARY: This notice announces the availability of the ROD to interconnect the proposed Hopkins Ridge Wind Energy Project into the Federal Columbia River Transmission System, as requested by RES America Developments. Transmission services would be provided for 150 megawatts of the output of the proposed wind project. This decision is consistent with and tiered to BPA's Business Plan Final Environmental Impact Statement (DOE/EIS-0183, June 1995), and the Business Plan Record of Decision (August 1995). The proposed interconnection project involves constructing a switching substation adjacent to an existing BPA transmission line near the wind project. The switching substation would be located on a 5-acre parcel of land currently used for wheat farming, immediately east of the intersection of Hartsock Grade Road and Lewis Gulch Road, Columbia County, Washington. BPA would construct the substation from March 1, 2005 through the fall of 2005.

ADDRESSES: Copies of the ROD and EIS may be obtained by calling BPA's toll-free document request line, 1-800-622-4520. The ROD and EIS Summary are also available on our Web site, http://www.efw.bpa.gov.

FOR FURTHER INFORMATION CONTACT: Kimberly St. Hilaire, Bonneville Power Administration—KEC-4, P.O. Box 3621, Portland, Oregon, 97208-3621; toll-free telephone number 1-800-282-3713; fax number 503-230-5699; or e-mail ksthilaire@bpa.gov.

Issued in Portland, Oregon, on December 20, 2004.
Stephen J. Wright,
Administrator and Chief Executive Officer.

[FR Doc. 04-28100 Filed 12-22-04; 8:45 am]

BILLING CODE 6450-01-P